DEPARTMENT OF COMMERCE

National Oceanic and Atmospheric Administration

[I.D. 052104C]

Proposed Information Collection; Comment Request; NOAA Research International Technical Assistance Program (ITAP)

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 26, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Bruce Travis Creighton, 301-713-2469, ext. 124; email: bruce.creighton@noaa.gov; or Jill Hepp, 301-713-2469, ext. 210; email: jill.hepp@noaa.gov.

SUPPLEMENTARY INFORMATION:

I. Abstract

The International Technical Assistance Program (ITAP) for NOAA Research is intended to stimulate the development of new collaborative relationships, foster exchanges of scientific personnel and information between NOAA Research and other countries and secure outside resources to promote international research and projects. To facilitate this, an online survey has been developed. The survey will act as a mechanism to catalog the products, services, technical and language expertise of NOAA Research and its affiliated personnel. This database will be used by NOAA Research to enable potential users to link specific areas of expertise and capabilities with funding for emerging international projects and initiatives. NOAA Research and its partners will then serve as a bridge between users (donor organizations) and experts to help facilitate and coordinate the resulting collaboration.

II. Method of Collection

The information will be collected via an online web survey.

III. Data

OMB Number: None.

Form Number: None.

Type of Review: Regular submission.

Affected Public: Federal Government, State, Local or Tribal Government.

Estimated Number of Respondents: 1,500.

Estimated Time Per Response: 20 minutes.

Estimated Total Annual Burden Hours: 500 hours.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 19, 2004.
Gwellnar Banks,
Management Analyst, Office of the Chief Information Officer.

[FR Doc. 04-11909 Filed 5-25-04; 8:45 am]

BILLING CODE 3510-KD-S